DEPARTMENT OF TRANSPORTATION

Federal Transit Administration

Over-the-Road Bus Accessibility Program Grants

AGENCY: Federal Transit Administration (FTA), DOT.

ACTION: Notice of Availability of Fiscal Year 2009 Funds: Solicitation of Grant Applications.

SUMMARY: The U.S. Department of Transportation (DOT) Federal Transit Administration (FTA) announces the availability of funds in Fiscal Year (FY) 2009 for the Over-the-Road Bus (OTRB) Accessibility Program, authorized by Section 3038 of the Transportation Equity Act for the 21st Century (TEA-21). The OTRB Accessibility Program makes funds available to private operators of over-the-road buses to finance the incremental capital and training costs of complying with DOT's over-the-road bus accessibility regulation. The authorizing legislation calls for national solicitation of applications with grantees to be selected on a competitive basis. Federal transit funds are available to intercity fixed-route providers and other OTRB providers at up to 90 percent of the project cost.

A total of $8,800,000 has been appropriated for the program in FY 2009. FY 2006 funds have lapsed in the amount of $1,867,900. The total amount available for allocation is $10,710,435 which includes FY 2009 appropriations and lapsed funds. This announcement is available on the Internet on the FTA Web site at: http://www.fta.dot.gov. FTA will announce final selections on the Web site and in the Federal Register. A synopsis of this announcement will be posted in the FIND module of the government-wide electronic grants Web site at http://www.grants.gov. Applications may be submitted to the appropriate FTA Regional Office (see Appendix B) in hard copy or electronically through the Grants.Gov APPLY function.

DATES: Complete applications for OTRB Program grants must be submitted to the appropriate FTA regional office (see Appendix B) by April 15, 2010, or submitted electronically through the Grants.Gov Web site by the same date. Anyone intending to apply electronically should initiate the process of registering on the Grants.Gov site immediately to ensure completion of registration before the deadline for submission. FTA will announce grant selections in the Federal Register when the competitive selection process is complete.

FOR FURTHER INFORMATION CONTACT: Contact the appropriate FTA Regional Administrator (Appendix B) for application-specific information and issues. For general program information, contact Blenda Younger, Office of Program Management, (202) 366-2053, e-mail: blenda.younger@dot.gov. A TDD is available at 1-800-877-8339 (TDD/FIRS).

Overview Information

Federal Agency Name: Department of Transportation. Federal Transit Administration (FTA).

Funding Opportunity Title: Capital And Training Assistance Program For Over-The-Road Bus Accessibility.

Announcement Type: Initial Announcement: Notice of Availability of Fiscal Year 2009.

Funds: Solicitation of Grant Applications.

Catalog of Federal Domestic Assistance (CFDA) Number: 20.518 Capital and Training Assistance Program For Over-The-Road Bus Accessibility.

SUPPLEMENTARY INFORMATION:

Table of Contents

I. Funding Opportunity Description

II. Award Information

III. Eligibility Information

IV. Application and Submission Information

V. Application Review Information

VI. Selection Process and Award Administration Information

VII. Agency Contacts

Appendix A Over-the-Road Bus Accessibility Program Application

Appendix B FTA Regional Offices

I. Funding Opportunity Description

A. Authority

The program is authorized under Section 3038 of the Transportation Equity Act for the 21st Century (TEA-21), Public Law 105-85 as amended by the Safe, Accountable, Flexible, Efficient, Transportation Equity Act: A Legacy for Users (SAFETEA-LU), Public Law 109-059, August 10, 2005.

B. Background

Buses purchased under the OTRB program are used in intercity fixed-route service as well as other services, such as commuter, charter, and tour bus services. These services are an important element of the U.S. transportation system. TEA-21 authorized FTA's OTRB Accessibility Program to assist OTRB operators in complying with the Department's OTRB Accessibility regulation, “Transportation for Individuals with Disabilities” (49 CFR part 37, Subpart H).

Summary of DOT's OTRB Accessibility Rule Deadlines for Acquiring Accessible Vehicles

Under the OTRB Accessibility regulation, all new buses obtained by large (Class I carriers, i.e., those with gross annual transportation revenues of $8.6 million or more), fixed-route carriers must be accessible, with wheelchair lifts and securement locations that allow passengers to ride in their own wheelchairs. Specifications describing the design features of an accessible over-the-road bus are listed in 49 CFR part 38, subpart G.

The rule required 50 percent of a fixed-route operator's fleet to be accessible by October 30, 2006, and 100 percent of the vehicles in their fleet to be accessible by October 29, 2012. New buses acquired by small (gross annual transportation revenues of less than $8.6 million) fixed-route operators after October 29, 2001, also are required to be lift-equipped, unless the operator can provide equivalent service to passengers with disabilities on a 48-hour advance notice basis. Unlike large operators, small fixed-route operators do not have a deadline for total fleet accessibility. Small demand responsive OTRB operators such as charter and tour companies are required to provide service in an accessible bus on 48 hours advance notice. Small mixed service operators must also provide this kind of service on an interim basis until their fleets are completely accessible.

OTRB operators must submit three types of reports annually by the last Monday of every October, with each annual report covering the time period from October 1 of the prior calendar year through September 30 of the current calendar year: (1) OTRB operators must submit a summary of all individual requests they receive for accessible and/or equivalent service in each 12-month reporting period; (2) Large and small fixed route OTRB companies must submit an annual report that summarizes the number of passengers with disabilities who used the lift to board accessible buses in a given 12-month reporting period; and (3) OTRB companies must submit acquisition and lease data to the DOT annually. Additional information on the filing requirements can be found on the following Federal Motor Carrier Safety Administration Web page: http://www.fmcsa.dot.gov/rules-regulations/bus/company/ada-guidelines.htm.

Deadlines for Delivering Accessible Service

The rules for delivering accessible motorcoach service went into effect October 29, 2001, for large fixed-route, charter, tour and other demand-responsive motorcoach operators, and for small operators on October 28, 2002. Operators should consult 49 CFR part 37, Subpart H, regarding the acquisition of accessible vehicles and the provision of accessible service to determine the applicable section that best describes their operating characteristics. Specifications describing the design features of an accessible over-the-road bus are listed in 49 CFR part 38, subpart G.

C. Purpose

Improving mobility and shaping America's future by ensuring that the transportation system is accessible, integrated, and efficient, and offers flexibility of choices is a key strategic goal of the DOT. OTRB Accessibility projects will improve mobility for individuals with disabilities by providing financial assistance to help make vehicles accessible and training to ensure that drivers and others are properly trained to use accessibility features as well as how to treat patrons with disabilities.

D. Vehicle and Service Definitions

An “over-the-road bus” is defined in 49 CFR 37.3 as a bus characterized by an elevated passenger deck located over a baggage compartment.

Intercity, fixed-route over-the-road bus service is regularly scheduled bus service for the general public, using an OTRB that operates with limited stops over fixed routes connecting two or more urban areas not in close proximity or connecting one or more rural communities with an urban area not in close proximity; has the capacity for transporting baggage carried by passengers; and makes meaningful connections with scheduled intercity bus service to more distant points. The application includes five criteria factors that will be reviewed to determine eligibility for a portion of the funding available to operators that qualify under this definition.

“Other” OTRB service means any other transportation using OTRBs, including local fixed-route service, commuter service, and charter or tour service (including tour or excursion service that includes features in addition to bus transportation such as meals, lodging, admission to points of interest or special attractions). While some commuter service may also serve the needs of some intercity fixed-route passengers, the statute includes commuter service in the definition of “other” service. Commuter service providers may apply for these funds, even though the services designed to meet the needs of commuters may also provide service to intercity fixed-route passengers on an incidental basis. If a commuter service provider can document that more than 50 percent of its passengers are using the service as intercity fixed-route service, the provider may apply for the funds designated for intercity fixed-route operators.

II. Award Information

Federal transit funds are available to intercity fixed-route providers and other OTRB providers at up to 90 percent of the project cost. A total of $8,800,000 was appropriated for the program in FY 2009 which together with $1,910,435 in prior year unobligated funds make a total of $10,710,435 available for allocation. Successful applicants will be awarded grants. Typical grants under this program range from $25,000 to $180,000, with most grants being less than $40,000, for lift equipment for a single vehicle.

III. Eligibility Information

1. Eligible Applicants

Grants will be made directly to operators of OTRBs. Intercity, fixed-route OTRB service providers may apply for the funds that are anticipated to be appropriated for intercity fixed-route providers in FY 2009. Applicants must establish eligibility as intercity fixed-route providers by meeting established criteria on six factors identified in Part 2B of the application. Other OTRB service providers, including operators of local fixed-route service, commuter service, and charter or tour service may apply for the funds appropriated in FY 2009 for these providers. OTRB operators who provide both intercity, fixed-route service and another type of service, such as commuter, charter or tour, may apply for both categories of funds with a single application. Private for-profit operators of over-the-road buses are eligible to be direct applicants for this program. This is a departure from most other FTA programs for which the direct applicant must be a State or local public body. FTA does not award grants to public entities under this program.

2. Eligible Projects

Projects to finance the incremental capital and training costs of complying with DOT's OTRB accessibility rule (49 CFR part 37) are eligible for funding. Incremental capital costs eligible for funding include adding lifts, tie-downs, moveable seats, doors and training costs associated with using the accessibility features and serving persons with disabilities. Retrofitting vehicles with such accessibility components is also an eligible expense. Please see Buy America section for further conditions of eligibility.

FTA may award funds for costs already incurred by the applicants. Any new wheelchair accessible vehicles delivered after June 8, 1998, the date that the TEA-21 became effective, are eligible for funding under the program. Vehicles of any age that have been retrofitted with lifts and other accessibility components after June 8, 1998, are also eligible for funding.

Eligible training costs are those required by the final accessibility rule as described in 49 CFR 37.209. These activities include training in proper operation and maintenance of accessibility features and equipment, boarding assistance, securement of mobility aids, sensitive and appropriate interaction with passengers with disabilities, and handling and storage of mobility devices. The costs associated with developing training materials or providing training for local providers of OTRB services for these purposes are also eligible expenses.

FTA will not fund the incremental costs of acquiring used accessible OTRBs that were previously owned, as it may be impossible to verify whether or not FTA funds were already used to make the vehicles accessible. Also, it would be difficult to place a value on the accessibility features based upon the depreciated value of the vehicle. The legislative intent of this grant program is to increase the number of wheelchair accessible OTRBs available to persons with disabilities throughout the country. The purchase of previously-owned accessible vehicles, whether or not they were funded by FTA, does not further this objective of increasing the number of wheelchair accessible OTRBs.

FTA has sponsored the development of accessibility training materials for public transit operators. Project ACTION is an FTA funded national technical assistance program to promote cooperation between the disability community and the transportation industry. Project ACTION provides training, resources and technical assistance to thousands of disability organizations, consumers with disabilities, and transportation operators. It maintains a resource center with up-to-date information on transportation accessibility. Project ACTION may be contacted at: Project ACTION, 1425 K Street, NW., Suite 200, Washington, DC 20005, Phone: 1-800-659-6428 (TDD: (202) 374-7385), Internet address: http://www.projectaction.org/.

3. Cost Sharing or Matching

Federal transit funds are available to intercity fixed-route providers and other OTRB providers at up to 90 percent of the project cost. A 10 percent match is required.

IV. Application and Submission Information

1. Address to Request Application Package

This announcement includes all of the application materials. It is also available on the Internet on the FTA Web site at http://www.fta.dot.gov. FTA will announce final selections on its Web site and in the Federal Register. A synopsis of this announcement will be posted in the FIND module of the government-wide electronic grants Web site at http://www.grants.gov.

2. Content and Form of Application Submission

Guidelines for Preparing Grant Application

The application should provide information on all items for which you are requesting funding in FY 2009. If you use another company's previous application as a guide, remember to modify all elements as appropriate to reflect your company's situation. The application must include a project narrative in the format provided in Appendix A, in addition to Standard Form 424, “Application for Federal Assistance.”

Application Content

I. Applicant Information

This addresses basic identifying information, including:

a. Company name.

b. Dun and Bradstreet (D&B) Data Universal Numbering System (DUNS) number.

c. Contact information for notification of project selection: contact name, address, email address, fax and phone number.

d. Description of services provided by company, including areas served.

e. For fixed-route carriers, whether you are a large (Class I, with gross annual operating revenues of $8.1 million or more) or small (gross operating revenues of less than $8.1 million annually) carrier.

f. Existing fleet and employee information, including number of over-the-road buses used for (1) intercity fixed-route service, and (2) other service, and number of employees.

g. If you provide both intercity fixed-route service and another type of service, such as commuter, charter or tour service, please provide an estimate of the proportion of your service that is intercity.

h. Description of your technical, legal, and financial capacity to implement the proposed project. Include evidence that you currently possess appropriate operating authority (e.g., DOT number if you operate interstate or identifier assigned by State if you do not operate interstate service).

II. Project Information

Every application must:

a. Provide the Federal amount requested for each purpose for which funds are sought in the format in Appendix A.

b. Document matching funds, including amount and source.

c. Describe project, including components to be funded (e.g., lifts, tie-downs, moveable seats, or training).

d. Provide project timeline, including significant milestones such as date or contract for purchase of vehicle(s), and actual or expected delivery date of vehicles.

e. Address each of the five statutory evaluation criteria described in V.

f. If requesting funding for intercity service, provide evidence that:

1. The applicant provides scheduled, intercity, fixed route, over-the-road bus service that interlines with one or more scheduled, intercity bus operators. (Such evidence includes applicant's membership in the National Bus Traffic Association or participation in separate interline agreements, and participation in interline tariffs or price lists issued by, or on behalf of, scheduled, intercity bus operators with whom the applicant interlines); and

2. The applicant has obtained authority from the Federal Motor Carrier Safety Administration or the Interstate Commerce Commission to operate scheduled, intercity, fixed route service; and as many of the following as are applicable;

3. The applicant is included in Russell's Official National Motor Coach Guide showing that it provides regularly scheduled, fixed route OTRB service with meaningful connections with scheduled intercity bus service to more distant points.

4. The applicant maintains a Web site showing routes and schedules of its regularly scheduled, fixed route OTRB service and its meaningful connections to other scheduled, intercity bus service.

5. The applicant maintains published schedules showing its regularly scheduled, fixed route OTRB service and its meaningful connections to other scheduled, intercity bus service.

6. The applicant participates in the International Registration Plan (IRP) apportionment program.

III. Labor Information

a. Identify any labor organizations that may represent your employees and employees of any transit providers in the service area of the project. For each local union of a nationally affiliated union, the applicant must provide the name of the national organization and the number or other designation of the local union (e.g., Amalgamated Transit Union local 1258). Since the Department of Labor (DOL) makes its referral to the national union's headquarters, there is no need to provide a means of contacting the local organization.

b. For each independent labor organization (i.e., a union that is not affiliated with a national or international organization) the local information will be necessary (name of organization, address, contact person, phone, fax numbers).

c. Where a labor organization represents transit employees in the service area of the project, DOL must refer the proposed protective arrangements to each union and to each recipient. For this reason, please provide DOL with a contact person, address, telephone number and fax number for your company and associated union information.

3. Submission Dates and Times

Complete applications for OTRB Accessibility Program grants must be submitted to the appropriate FTA regional office (Appendix B) April 15, 2010 or submitted electronically through http://www.grants.gov by the same date. Applicants planning to apply electronically are encouraged to begin the process of registration on the Grants.Gov site well in advance of the submission deadline. Registration is a multi-step process, which may take several weeks to complete before an application can be submitted. FTA will announce grant selections when the competitive selection process is complete.

4. Intergovernmental Review

This program is not generally subject to Executive Order (EO) 12372, “Intergovernmental Review of Federal Programs.” For more information, contact the State's Single Point of Contact (SPOC) to find out about and comply with the State's process under EO 12372. The names and addresses of the SPOCs are listed in the Office of Management and Budget's homepage at http://www.whitehouse.gov/omb/grants/spoc.html.

5. Funding Restrictions

Only applications from eligible recipients for eligible activities will be considered for funding (see Section III). Due to funding limitations, applicants that are selected for funding may receive less than the amount requested.

6. Other Submission Requirements

Applicants should submit three copies of their project proposal application, consistent with the application format provided at Appendix A, to the appropriate regional office or apply electronically through the government wide electronic grant application portal at http://www.grants.gov.

V. Application Review Information

1. Project Evaluation Criteria—Projects will be evaluated according to the following criteria:

A. The identified need for OTRB accessibility for persons with disabilities in the areas served by the applicant (20 points).

B. The extent to which the applicant demonstrated innovative strategies and financial commitment to providing access to OTRBs to persons with disabilities (20 points).

C. The extent to which the OTRB operator acquired equipment required by DOT's over-the-road bus accessibility rule prior to the required timeframe in the rule (20 points).

D. The extent to which financing the costs of complying with DOT's rule presents a financial hardship for the applicant (20 points).

E. The impact of accessibility requirements on the continuation of OTRB service with particular consideration of the impact of the requirements on service to rural areas and for low-income individuals (20 points).

Note: These are the statutory criteria upon which funding decisions will be made. In addition to these criteria, FTA may also consider other factors, such as the size of the applicant's fleet and the level of FTA funding previously awarded to applicants in prior years. Applicants will not be considered for funding as intercity fixed-route operators unless they satisfy, at a minimum, the first two criteria and at least one of criteria three through five listed in the Project Information section of the application; these criteria are applicable to intercity fixed-route applicants.

VI. Selection Process and Award Administration Information

1. Review and Selection Process

Each application is screened by a panel of members consisting of FTA headquarters and regional staff. Incomplete or non-responsive applications will be disqualified. Intercity fixed-route service providers must provide evidence that they meet at a minimum the first two criteria and at least one of the next three criteria set forth in Project Information, if funds are requested under this category (see Appendix A, 2, B). Applicants that do not qualify as intercity-fixed route operators may be considered for funding in the “other” category using the same application. FTA will make an effort to award every qualified applicant at least one lift.

2. Award Notices

FTA will screen all applications to determine whether all required eligibility elements, as described in Part III “Eligibility Information,” are present. The FTA evaluation team will evaluate each application according to the criteria described in this announcement. FTA will notify all applicants, both those selected for funding and those not selected when the competitive selection process is complete. Projects selected for funding will be published in a Federal Register notice. Applicants selected for funding must then apply to the FTA regional office for the actual grant award, sign Certifications and Assurances, and execute a grant contract before funds can be drawn down.

3. Administrative and National Policy Requirements

A. Grant Requirements

Applicants selected for funding must include documentation necessary to meet the requirements of FTA's Nonurbanized Area Formula program (Title 49, United States Code, Section 5311). Technical assistance regarding these requirements is available from each FTA regional office. The regional offices will contact those applicants selected for funding regarding procedures for making the required certifications and assurances to FTA before grants are made.

The authority for these requirements is provided by TEA-21, Public Law 105-178, June 9, 1998, as amended by the TEA-21 Restoration Act 105-206, 112 Stat. 685, July 22, 1998; 49 U.S.C. Section 5310, note; and DOT and FTA regulations and FTA Circulars.

B. Buy America

Under the OTRB Accessibility Grant Program, FTA's Buy America regulations, 49 CFR part 661, apply to the incremental capital costs of making vehicles accessible.

Generally, Buy America applies to all accessibility equipment acquired with FTA funds, i.e., all of the manufacturing processes for the product take place in the United States. The lift, the moveable seats, and the securement devices will each be considered components for purposes of this program; accordingly, as components, each must be manufactured in the United States regardless of the origin of its respective subcomponents.

It should also be noted that FTA has issued a general public interest waiver for all purchases under the Federal “small purchase” threshold, which is currently $100,000. (See 49 CFR 661.7, Appendix A(e)). Because Section 3038(b) of TEA-21, limited FTA financing to the incremental capital costs of compliance with DOT's OTRB accessibility rule, the small purchase waiver applies only to the incremental cost of the accessibility features. Where more than one bus is being made accessible, the grantee must calculate the incremental cost increase of the entire procurement when determining if the small purchase waiver applies. For example, if $30,000 is the incremental cost for the accessibility features eligible under this program per bus (regardless of the Federal share contribution), then a procurement of three buses with a total such cost of $90,000, would qualify for the small purchase waiver. No special application to FTA would be required.

The grantee must obtain a certification from the bus or component manufacturer that all items included in the incremental cost for which the applicant is applying for funds meet Buy America requirements. The Buy America regulations can be found at http://www.fta.dot.gov/library/legal/buyamer/.

C. Labor Protection

Before FTA may award a grant for capital assistance, 49 U.S.C. 5333(b) requires that fair and equitable arrangements must be made to protect the interests of transit employees affected by FTA assistance. Those arrangements must be certified by the Secretary of Labor as meeting the requirements of the statute. When a labor organization represents a group of affected employees in the service area of an FTA project, the employee protective arrangement is usually the product of negotiations or discussions with the union. The grant applicant can facilitate DOL certification by identifying in the application any previously certified protective arrangements that have been applied to similar projects undertaken by the grant applicant, if any. Receiving funds under the OTRB Accessibility program, however, will not require the grantee's employees to be represented by organized labor. Nothing in the labor protection provisions in 49 U.S.C 5333(b) requires a motorcoach operator to become a union carrier or encourages union organizing in any manner. Upon receipt of a grant application requiring employee protective arrangements, FTA will transmit the application to DOL and request certification of the employee protective arrangements. In accordance with DOL guidelines, DOL notifies the relevant unions in the area of the project that a grant for assistance is pending and affords the grant applicant and union the opportunity to agree to an arrangement establishing the terms and conditions of the employee protections. If necessary, DOL furnishes technical and mediation assistance to the parties during their negotiations. The Secretary of Labor may determine the protections to be certified if the parties do not reach an agreement after good faith bargaining and mediation efforts have been exhausted. DOL will also set the protective conditions when affected employees in the service area are not represented by a union. When DOL determines that employee protective arrangements comply with labor protection requirements, DOL will provide a certification to FTA. The grant agreement between FTA and the grant applicant incorporates by reference the employee protective arrangements certified by DOL.

Applicants must identify any labor organizations that may represent their employees and all labor organizations that represent the employees of any other transit providers in the service area of the project.

For each local of a nationally affiliated union, the applicant must provide the name of the national organization and the number or other designation of the local union (e.g., Amalgamated Transit Union local 1258). Since DOL makes its referral to the national union's headquarters, there is no need to provide a means of contacting the local organization.

However, for each independent labor organization (i.e., a union that is not affiliated with a national or international organization) the local information will be necessary, such as the name of organization, address, contact person, phone, and fax numbers.

Where a labor organization represents transit employees in the service area of the project, DOL must refer the proposed protective arrangements to each union and to each recipient. For this reason, please provide DOL with a contact person, address, telephone number and fax number for your company, and associated union information.

DOL issued a Federal Register notice addressing the new TEA-21 programs, including the OTRB Accessibility Program, “Amendment to Section 5333(b) Guidelines to Carry Out New Programs Authorized by the Transportation Equity Act for the 21st Century (TEA-21);” Final Rule, dated July 28, 1999. FTA issued a “Dear Colleague” letter, dated December 5, 2000, addressing DOL processing of grant applications. Attached to the letter is an application checklist, which provides information that DOL must have in order to review and certify FTA grant applications. This letter and attachment can be found at: http://www.fta.dot.gov/office/public/c0019.html. Questions concerning protective arrangements and related matters pertaining to transit employees should be addressed to the Division of Statutory Programs, Department of Labor, 200 Constitution Avenue, NW., Room N-5411, Washington, DC 20210; telephone (202) 693-0126, fax (202) 219-5338.

D. Planning

Applicants are encouraged to notify the appropriate State Departments of Transportation and Metropolitan Planning Organizations (MPO) in areas likely to be served by equipment made accessible through funds made available in this program. Those organizations, in turn, should take appropriate steps to inform the public, and individuals requiring fully accessible services in particular, of operators' intentions to expand the accessibility of their services. Incorporation of funded projects in the plans and transportation improvement programs of states and metropolitan areas by States and MPOs also is encouraged, but is not required.

E. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and affects the implementation of the project. The applicant agrees that the most recent Federal requirements will apply to the project, unless FTA issues a written determination otherwise. Certifications and Assurances for grants to be awarded under this program in FY 2009 will be included in the FTA Certifications and Assurances for FY 2009, which will be published in the Federal Register at a later date, and made available for electronic signature in FTA's grants system. Every applicant must submit Certification 01, “For Each Applicant.” Each applicant for more than $100,000 must provide both Certification 01, and, 02, the “Lobbying Certification.”

4. Reporting

Post-award reporting requirements include submission of final Financial Status Report and milestone report, or annual reports for grants remaining open at the end of each Federal fiscal year (September 30). Documentation is required for payment.

VII. Agency Contact(s)

Contact the appropriate FTA Regional Administrator (Appendix B) for application-specific information and issues. For general program information, contact Blenda Younger, Office of Program Management, (202) 366-2053, e-mail: blenda.younger@dot.gov. A TDD is available at 1-800-877-8339 (TDD/FIRS).

Issued in Washington, DC, this 12th day of January, 2010.
Peter Rogoff,
Administrator.

Appendix A Over-the-Road Bus Accessibility Program Project Proposal Application (Paper or electronic project narrative)

(See Section IV.2 of Federal Register announcement for detailed explanation of application content).

In addition to OMB Standard Form 424, Application For Federal Assistance, provide the following information:

1. Applicant Information

A. Company Name:

B. DUNS Number:

C. For Notification of Project Selection Contact:

Name of Individual:

Address:

FAX:

Telephone number:

E-mail:

D. Describe Services Provided by Company, including Areas Served:

E. Intercity Fixed-Route Carriers:

___Large/Class I (gross annual operating revenues of $8.1 Million or more).

___Small (gross annual revenues of less than $8.1 Million).

F. Existing Fleet and Employee Information:

___Total number of over-the-road buses in fleet.

___Number of over-the-road buses in fleet used for intercity fixed-route service.

___Number of over-the-road buses intercity-fixed-route service that currently have lifts.

___Number of over-the-road buses in fleet used for Other Service, e.g., Charter, Tour, & Commuter.

___Number of over-the-road buses used in “other” service that currently have lifts.

___Number of Employees.

G. Estimate of the proportion of service, if any, that is intercity fixed-route

___% of services is intercity fixed-route.

H. Describe your technical, legal, and financial capacity to implement the proposed project. Include evidence of operating authority.

2. Project Information

A. Federal Amount Requested (Up to 90% Federal Share):

Intercity Fixed Route Service:

$____for____ #New Over-the-road Buses

$____for____ #Retrofits

$____for____ #Employees—Training

Other Service (Commuter, Charter, or Tour)

$____for____ #New Over-the-road Buses

$____for____ #Retrofits

$____for____ #Employees—Training

B. If requesting funding for intercity service, provide evidence of any of the following that are applicable:

1. The applicant provides scheduled, intercity, fixed route, over-the-road bus service that interlines with one or more scheduled, intercity bus operators. Such evidence includes applicant's membership in the National Bus Traffic Association or participation in separate interline agreements, and participation in interline tariffs or price lists issued by, or on behalf of, scheduled, intercity bus operators with whom the applicant interlines.

2. The applicant has obtained authority from the Federal Motor Carrier Safety Administration or the Interstate Commerce Commission to operate scheduled, intercity, fixed route service.

3. The applicant is included in Russell's Official National Motor Coach Guide showing that it provides regularly scheduled, fixed route OTRB service with meaningful connections with scheduled intercity bus service to more distant points.

4. The applicant maintains a website showing routes and schedules of its regularly scheduled, fixed route OTRB service and its meaningful connections to other scheduled, intercity bus service.

5. The applicant maintains published schedules showing its regularly scheduled, fixed route OTRB service and its meaningful connections to other scheduled, intercity bus service.

6. The applicant participates in the International Registration Plan (IRP) apportionment program.

C. Document Matching Funds, including Amount and Source

D. Describe Project, including Components to be funded (i.e., lifts, tie-downs, moveable seats or training).

E. Provide Project Time Line, including significant milestones such as date of contract for purchase of vehicle(s), and actual or expected delivery date of vehicles.

F. Project Evaluation Criteria

Provide information addressing the following criteria:

• The identified need for OTRB accessibility for persons with disabilities in the areas served by the applicant (20 points).

• The extent to which the applicant demonstrated innovative strategies and financial commitment to providing access to OTRBs to persons with disabilities (20 points).

• The extent to which the over-the-road bus operator acquired equipment required by DOT's OTRB accessibility rule prior to the required time frame in the rule (20 points).

• The extent to which financing the costs of complying with DOT's rule presents a financial hardship for the applicant (20 points).

• The impact of accessibility requirements on the continuation of OTRB service with particular consideration of the impact of the requirements on service to rural areas and for low income individuals (20 points).

G. Labor Information

• List labor organizations that may represent your employees and all labor organizations that represent the employees of any transit providers in the service area of the project.

• For each local of a nationally affiliated union, provide the name of the national organization and the number or other designation of the local union.

• For each independent labor organization, provide the local information, including: name of organization, address, contact person, phone and fax numbers.

• For transit employee unions in service area of project, provide information including: contact person, address, telephone number and fax number for your company and associated union information.

Appendix B

FTA Regional Offices
Richard H. Doyle, Regional Administrator, Region 1—Boston, Kendall Square, 55 Broadway, Suite 920, Cambridge, MA 02142-1093, Tel. 617-494-2055. | Robert C. Patrick, Regional Administrator, Region 6-Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico and Texas.
Brigid Hynes-Cherin, Regional Administrator, Region 2—New York, One Bowling Green, Room 429, New York, NY 10004-1415, Tel. 212-668-2170. | Mokhtee Ahmad, Regional Administrator, Region 7—Kansas City, MO, 901 Locust Street, Room 404, Kansas City, MO 64106, Tel. 816-329-3920.
States served: New Jersey, New York.
New York Metropolitan Office, Region 2—New York, One Bowling Green, Room 428, New York, NY 10004-1415, Tel. 212-668-2202. | States served: Iowa, Kansas, Missouri, and Nebraska.
Letitia Thompson, Regional Administrator, Region 3—Philadelphia, 1760 Market Street, Suite 500, Philadelphia, PA 19103-4124, Tel. 215-656-7100. | Terry Rosapep, Regional Administrator, Region 8—Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and Wyoming.
Philadelphia Metropolitan Office, Region 3—Philadelphia, 1760 Market Street, Suite 500, Philadelphia, PA 19103-4124, Tel. 215-656-7070.
Washington, DC Metropolitan Office, 1990 K Street, NW., Room 510, Washington, DC 20006, Tel. 202-219-3562.
Yvette Taylor, Regional Administrator, Region 4—Atlanta, 230 Peachtreet Street, NW., Suite 800, Atlanta, GA 30303, Tel. 404-865-5600. | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. | Rick Krochalis, Regional Administrator, Region 10—Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5—Chicago, 200 West Adams Street, Suite 320, Chicago, IL 60606, Tel. 312-353-2789.

[FR Doc. 2010-703 Filed 1-14-10; 8:45 am]

BILLING CODE P